DEPARTMENT OF DEFENSE

Defense Financing and Accounting Service; Privacy Act of 1974; Systems of Records

AGENCY: Defense Finance and Accounting Services, DoD.

ACTION: Notice to alter a system of records.

SUMMARY: The Defense Finance and Accounting Service (DFAS) is proposing to alter an existing system of records. The system of records (A0037-1 MTMC, entitled Defense Travel System) is being transferred from the Department of the Army's inventory to the DFAS inventory of systems of records, and is being altered to expand the category of individuals covered, the categories of records being maintained, and adds a routine use to permit the release of records to the Internal Revenue Service for the purpose of taxing travel pay allowances.

DATES: This action will be effective without further notice on October 8, 2004, unless comments are received that would result in a contrary determination.

ADDRESSES: Send comments to the FOIA/PA Program Manager, Office of Corporate Communications, Defense Finance and Accounting Service, 6760 E. Irvington Place, Denver, CO 80279-8000.

FOR FURTHER INFORMATION CONTACT: Ms. Linda Krabbenhoft at (303) 676-7514.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on August 30, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 1, 2004.
L.M. Bynum,
Alternate OSD Federal Register Liaison Officer, Department of Defense.

A0037-1 MTMC

System name:

Defense Travel System (DTS) (March 12, 1999, 64 FR 12291).

Changes:

System identifier:

Delete entry and replace with ‘T7334’.

* * * * *

System location:

Delete entry and replace with ‘Central Data Center 1, Northrop Grumman Mission Systems, 12900 Federal Systems Park Drive, FPI/6133, Fairfax, VA 22033-4411.

Central Data Center 2, Usinternetworking, Inc., One Usi Plaza, Annapolis, MD 21401-7478.

Northrop Grumman Mission Systems, 12011 Sunset Hill Road, Reston, VA 20190-3262.

DTS Archive/Management Information System, Defense Manpower Data Center, DoD Center, Monterey Bay, 400 Gigling Road, Seaside, CA 93955-6771.’

Categories of individuals covered by the system:

Delete entry and replace with ‘Department of Defense (DoD) civilian personnel; military active, former, and retired military members; Reserve and National Guard personnel; academy nominees, applicants, and cadets; dependents of military personnel; and foreign national residing in the United States; and all in receipt of DoD travel orders’.

* * * * *

Routine uses of records maintained in the system, including categories of users and the purposes of such uses:

Add a new paragraph ‘To the Internal Revenue Service to provide information concerning the pay of travel allowances which are subject to federal income tax.’

* * * * *

Retrievability:

Delete entry and replace with ‘Travel authorization and voucher records are retrieved by the name, and Social Security Number. In addition, authorized individuals may also retrieve the information via travel authorization number or reports generated based on criteria such as trip dates, document type, document status, organization, accounting codes, trip purposes, document number, or temporary duty location.’

Safeguards:

Delete entry and replace with ‘When individuals are granted access to the DTS records system, their access is limited to only those records needed to perform their assigned duties. For those granted access to all records, procedures are in place to deter and detect browsing and unauthorized access.

Physical and electronic access are limited to persons responsible for servicing and authorized to use the record system in the performance of their official duties. These individuals are properly screened and cleared for a need-to-know the information in this record system. Records are stored in office buildings protected by guards, controlled screening, use of visitor registers, electronic access, and/or locks.

Passwords and digital signatures are used to control access to the systems data in accordance with industry standards and DoD policies. The DTS CDC1, CDC2, and DMDC are certified an accredited in accordance with DoD and DFAS information quality assurances policies.’

* * * * *

T7334

System name:

Defense Travel System.

System location:

Central Data Center 1, Northrop Gumman Mission Systems, 12900 Federal Systems Park Drive, FPI/6133, Fairfax, VA 22033-4411.

Central Data Center 2, Usinternetworking, Inc. One Usi Plaza, Annapolis, MD 21401-7478.

Northrop Gruman Mission Systems, 12011 Sunset Hills Road, Reston, VA 20190-3262.

DTS Archive/Management Information System, Defense Manpower Data Center, DoD Center, Monterey Bay, 400 Gigling Road, Seaside, CA 93955-6771.

Categories of individuals covered by the system:

Department of Defense (DoD) civilian personnel; military active, former, and retired military members; Reserve and National Guard personnel; academy nominees, applicants, and cadets; dependents of military personnel; and foreign nationals residing in the United States; and all in receipt of DoD travel orders.

Categories of records in the system:

Traveler's name, Social Security Number, gender, e-mail address, Service/Agency, organizational information, mailing address, home address, emergency contact information, duty station information, title/rank, civilian/military status information, travel preferences, frequent flyer information, passport information. Information in this system is obtained from the individual traveler, related voucher documents, Defense Accounting Offices (DAOs), and other DoD Components, government and/or personal checking and/or savings account numbers, government accounting code/budget information, travel itineraries and reservations, trip record number, trip cost estimates, travel vouchers, travel-related receipts, travel document status information, travel budget information, commitment of travel funds, records of actual payment of travel funds, and supporting documentation.

Authority for maintenance of the system:

5 U.S.C. 5701-5757, Travel, Transportation, and subsistence; 10 U.S.C. 135, Under Secretary of Defense (Comptroller); 10 U.S.C. 136, Under Secretary of Defense for Personnel and Readiness; 10 U.S.C. 3013, Secretary of the Army; 10 U.S.C. 5013, Secretary of the Navy; 10 U.S.C. 8013, Secretary of the Air Force; DoD Financial Management Regulation 7000.14-R, Vol. 9, Travel Policies and Procedures; and E.O. 9397 (SSN).

Purpose(s):

To provide a DoD-wide travel management process which will cover all official travel, from pre-travel arrangements to post-travel payments, to include the processing of official travel requests for DoD personnel, and other individuals who travel pursuant to DoD travel orders; to provide for the reimbursement of travel expenses incurred by individuals while traveling on official business; and to create a tracking system whereby DoD can monitor the authorization, obligation, and payment for such travel.

To establish a repository of archived/Management Information system (MIS) travel records which can be used to satisfy reporting requirements; to assist in the planning, budgeting, and allocation of resources for future DoD travel; to conduct oversight operations; to analyze travel, budgetary, or other trends; to detect fraud and abuse; and to respond to authorized internal and external requests for data relating to DoD official travel and travel related services.

Routine uses of records maintained in the system, including categories of users and the purposes of such uses:

In addition to those disclosures generally permitted under 5 U.S.C. 552a(b) of the Privacy Act of 1974, as amended, these records or information contained therein may specifically be disclosed outside the DoD as a routine use pursuant to 5 U.S.C. 552a(b)(3) as follows:

To Federal and private entities providing travel services for purposes of arranging transportation and lodging for those individuals authorized to travel at government expense on official business.

To the Internal Revenue Service to provide information concerning the pay of travel allowances which are subject to federal income tax.

The DoD “Blanket Routine Uses” set forth at the beginning of the DoD compilation of systems of records notices apply to this system.

Policies and practices for storing, retrieving, accessing, retaining, and disposing of records in the system:

Storage:

The records are maintained on electronic storage media and hard copy documents.

Retrievability:

Travel authorization and voucher records are retrieved by the name and Social Security Number of the individual.

Safeguards:

Records are stored in office buildings protected by guards, controlled screening, use of visitor registers, electronic access, and/or locks. Access to records is limited to individuals who are properly screened and cleared on a need-to-know basis in the performance of their official duties. Passwords and digital signatures are used to control access to the systems data, and procedures are in place to deter and detect browsing and unauthorized access. Physical and electronic access are limited to persons responsible for servicing and authorized to use the record system.

Retention and disposal:

Records are maintained from 90 days to 6 years and 3 months.

System manager(s) and address:

Program Director, Project Management Office, Defense Travel System, 241 18th Street, Suite 100, Arlington, VA 22202-3408.

For archived records: Deputy Director, DTS/Management Information System, Defense Manpower Data Center, 400 Gigling Road, Seaside, CA 93955-6771.

Notification procedure:

Individuals seeking to determine whether information about themselves is contained in this system of records should address written inquiries to the Defense Finance and Accounting Service, Office of Corporate Communications, Freedom of Information/Privacy Act Program Manager, 6760 E. Irvington Place, Denver, CO 80279-8000.

Individuals should provide their full name, Social Security Number, office or organization where assigned when trip was taken, and dates of travel.

Record access procedures:

Individuals seeking access to records about themselves contained in this system of records should address written inquiries to the Defense Finance and Accounting Service, office of Corporate Communications, Freedom of Information/Privacy Act Program Manager, 6760 E. Irvington Place, Denver, CO 80279-8000.

Individuals should provide their full name, Social Security Number, office or organization where assigned when trip was taken, and dates of travel.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

Records are obtained from the individual traveler, related voucher documents, DFAS or other DoD components, as applicable.

Exemptions claimed for the system:

None.

[FR Doc. 04-20279 Filed 9-7-04; 8:45 am]

BILLING CODE 5001-06-M